COMMISSION ON CIVIL RIGHTS

Agenda and Notice of Public Meeting of the Connecticut Advisory Committee

Notice is hereby given, pursuant to the provisions of the rules and regulations of the U.S. Commission on Civil Rights (Commission), and the Federal Advisory Committee Act (FACA), that a planning meeting of the Connecticut Advisory Committee to the Commission will convene at 12 p.m. and adjourn at 2 p.m. on Thursday, August 2, 2007 in the conference room of Oak Hill, located at 120 Holcomb Street, Hartford, Connecticut. The purpose of the planning meeting is for the committee to discuss its school choice report and plan for the committee's September briefing on school choice.

Members of the public are entitled to submit written comments; the comments must be received in the Eastern Regional Office by August 9, 2007. The address is 624 Ninth Street, NW., Suite 740, Washington, DC 20425. Persons wishing to e-mail their comments, or to present their comments verbally at the meeting, or who desire additional information should contact Barbara de La Viez, Civil Rights Analyst, Eastern Regional Office, U.S. Commission on Civil Rights at (202) 376-7533 [TDY 202-376-8116], or by e-mail at bdelaviez@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, July 17, 2007.
Ivy Davis,
Acting Chief, Regional Programs Coordination Unit.

[FR Doc. E7-14073 Filed 7-19-07; 8:45 am]

BILLING CODE 6335-02-P